DEPARTMENT OF EDUCATION

[Docket No.: ED-2021-SCC-0164]

Agency Information Collection Activities; Submission to the Office of Management and Budget for Review and Approval; Comment Request; Evaluation of the Implementation of the Statewide Family Engagement Centers

AGENCY: Institute of Educational Science (IES), Department of Education (ED).

ACTION: Notice.

SUMMARY: In accordance with the Paperwork Reduction Act of 1995, ED is proposing a new information collection.

DATES: Interested persons are invited to submit comments on or before April 15, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Andrew Abrams, 202-245-7500.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Implementation of the Statewide Family Engagement Centers.

OMB Control Number: 1850-NEW.

Type of Review: A new information collection.

Respondents/Affected Public: Private Sector; State, Local, and Tribal Governments.

Total Estimated Number of Annual Responses: 65.

Total Estimated Number of Annual Burden Hours: 72.

Abstract: Despite the important role family engagement may play in children's educational progress, families below the poverty line are significantly less likely than those at or above the poverty line to be involved in their child's schooling. The Statewide Family Engagement Centers (SFEC) is one of the key U.S. Department of Education programs designed to close this gap. Funded for the first time in 2018, SFEC builds on an earlier program and provides grants to partnerships of education organizations and their states. The partners are expected to both deliver services directly to families to increase their engagement and to provide technical assistance and training to state, district, and school staff to help them help families. This study will describe the work of the first 12 grantees, focusing on the extent to which certain program priorities are being implemented. The results are intended to help federal policy makers refine the goals and objectives of the SFEC program, as well as inform the work of education organizations and state and local education agencies beyond the current grantees to improve their work with families.

Dated: March 11, 2022.
Juliana Pearson,
PRA Coordinator, Strategic Collections and Clearance, Governance and Strategy Division, Office of Chief Data Officer, Office of Planning, Evaluation and Policy Development.

[FR Doc. 2022-05548 Filed 3-15-22; 8:45 am]

BILLING CODE 4000-01-P